ELECTION ASSISTANCE COMMISSION

Proposed Voluntary Voting System Guidelines 2.0 Principles and Guidelines; Correction

AGENCY: United States Election Assistance Commission.

ACTION: Notice; correction.

SUMMARY: The Election Assistance Commission published a document in the Federal Register on February 28, 2019. Publication of the Voluntary Voting System Guidelines .

FOR FURTHER INFORMATION CONTACT: Clifford Tatum, 301-563-3957.

SUPPLEMENTARY INFORMATION:

Correction

In the Federal Register on February 28, 2019, in FR Doc. 2019-03453, on page 67876, in the first column, correct the Dates caption to read:

DATES: Comments must be received on or before 4:00 p.m. EST on May 29, 2019.

Submission of Comments: The public may submit comments through one of the two following methods provided by the EAC: (1) By mail to Voluntary Voting System Guidelines 2.0. Principles and Guidelines Comments, U.S. Election Assistance Commission, 1335 East-West Highway, Suite 4300, Silver Spring, Maryland 20910, and (2) via an online submission form found at the following link https://www.eac.gov/vvsg-form/. Members of the public are encouraged to submit comments electronically to ensure timely receipt and consideration. In order to allow efficient and effective review of comments the EAC requests that:

(1) Comments refer to the specific section that is the subject of the comment.

(2) General comments regarding the entire document or comments that refer to more than one section be made as specifically as possible so that EAC can clearly understand to which portion(s) of the documents the comment refers.

(3) To the extent that a comment suggests a change in the wording of a Principal or Guideline or section of the guidelines, please provide proposed language for the suggested change.

To Obtain a Copy of the VVSG Volume Version 2.0 Principles and Guidelines: A complete copy of the draft VVSG 2.0 Principles and Guidelines is available from the EAC in electronic format. An electronic copy can be downloaded in PDF format on the EAC's website, http://www.eac.gov. In order to obtain a paper copy of the TGDC draft recommendations please mail a written request to Voluntary Voting System Guidelines 2.0 Principles and Guidelines Comments, U.S. Election Assistance Commission, 1335 East-West Highway, Suite 4300, Silver Spring, Maryland 20910.

Correction

In the Federal Register on February 28, 2019, in FR Doc. 2019-03453, on page 67876, in the first column, correct the Further Information Contact caption to read:

FOR FURTHER INFORMATION CONTACT: Jerome Lovato, Phone (301) 563-3929, or at Contact EAC at https://www.eac.gov/contact/

Clifford D. Tatum,
General Counsel.

[FR Doc. 2019-11363 Filed 5-30-19; 8:45 am]

BILLING CODE 6820-KF-P